DEPARTMENT OF HOMELAND SECURITY

Office of the Secretary

Senior Executive Service Performance Review Board

AGENCY: Office of the Secretary, DHS.

ACTION: Notice of Federal Register.

SUMMARY: This notice announces the appointment of the members of the Senior Executive Service Performance Review Boards for the Department of Homeland Security. The purpose of the Performance Review Board is to view and make recommendations concerning proposed performance appraisals, ratings, bonuses, pay adjustments, and other appropriate personnel actions for incumbents of Senior Executive Service, Senior Level and Senior Professional positions of the Department.

DATES: Effective Dates: This Notice is effective July 24, 2013.

FOR FURTHER INFORMATION CONTACT: Elizabeth Haefeli, Office of the Chief Human Capital Officer, telephone (202) 357-8164.

SUPPLEMENTARY INFORMATION: Each federal agency is required to establish one or more performance review boards (PRB) to make recommendations, as necessary, in regard to the performance of senior executives within the agency. 5 U.S.C. 4314(c). This notice announces the appointment of the members of the PRB for the Department of Homeland Security (DHS). The purpose of the PRB is to review and make recommendations concerning proposed performance appraisals, ratings, bonuses, pay adjustments, and other appropriate personnel actions for incumbents of SES positions within DHS.

The Board shall consist of at least three members. In the case of an appraisal of a career appointee, more than half of the members shall consist of career appointees. Composition of the specific PRBs will be determined on an ad hoc basis from among the individuals listed below:

Alles, Randolph D.

Amparo, Alexis

Anderson, Penny

Anderson, Rose J.

Andrews, John

Armstrong, Charles R.

Armstrong, Sue

Ayala, Janice

Baer, Thomas

Baran, Kathy

Barber, Delores

Baroukh, Nader

Barrett, Lawrence

Barrows, Angela

Bartoldus, Charles

Batkin, Joshua C.

Bauhs, Kimberlyn J.

Beagles, James

Beckham, Steward D.

Beers, Rand

Benda, Francis

Bersin, Alan

Bester, Margot

Bibo, David R.

Borkowski, Mark S.

Borras, Rafael

Bourbeau, Sharie

Boyce, Carla J.

Boyce, Maria Luisa

Boyd, David

Braccio, Dominick D

Bray, Robert S.

Breor, Scott

Brinsfield, Kathryn

Brooks, Vicki

Brown, Dallas

Brown, Meddie

Brundage, William

Brzymialkiewicz, Caryl

Buckingham, Patricia A.

Butcher, Michael

Button, Christopher

Byrne, Sean J.

Caggiano, Marshall L.

Cahill, Donna L.

Callahan, Colleen B.

Cameron, Michael K.

Campagnolo, Donna

Canevari, Holly

Cantor, Jonathan

Carpenter, Dea D.

Carter, Gary

Castro, Raul

Chaleki, Thomas

Chavez, Richard

Cioppa, Thomas

Clark, Kenneth

Clever, Daniel

Cline, Richard

Coffman, Katherine M.

Cogswell, Patricia

Cohen, John

Cohn, Alan

Coleman, Corey J.

Conklin, Jeffery

Conklin, William

Connor, Edward L.

Correa, Soraya

Covell, Cynthia

Coven, Phyllis

Cowan, Robert

Cox, Adam

Cummiskey, Chris

Daitch, William

Darling, Michael

Davis, Delia P.

Davis, Robert

Dayton, Mark

de Vallance, Brian

DiFalco, Frank

Dinkins, James A.

Dorko, Jeffrey J.

Dorochoff, Ruth

Driggers, Richard

Duong, Anh

Durette, Paul

Durham, Debra

Durkovich, Caitlin

Edwards, Eric L.

Emerson, Catherine

Emrich, Matthew

Ennis, Eileen

Epstein, Gerald

Erevia, Victor

Essid, Michael

Fagerholm, Eric

Falk, Scott K.

Farley, Evan T.

Farmer, Robert A.

Fenton, Robert J.

Fisher, Michael J.

Fitzgerald, Karen

Flinn, Shawn

Flynn, William

Fonash, Peter

Fortune, Anthony

Fox, Katherine B.

Fox, Katherine M.

Frazier, Denise

Freeman, Beth A.

Fujimura, Paul N.

Gabbrielli, Tina

Gaines, Glenn A.

Gammon, Carla

Gantt, Kenneth

Garner, David

Geiselman, Sandra L.

Gerstein, Daniel

Gersten, David

Gina, Allen

Goode, Brendan

Gowadia, Huban

Grade, Deborah C.

Gramlick, Carl

Graves, Margaret

Greene, Jonathan

Griffin, Robert

Grimm, Michael

Gross-Davis, Leslie

Grossman, Seth S.

Gruber, Corey D.

Gunter, Brett

Halinski, John W.

Hall, Christopher J.

Hardiman, Tara

Havranek, John F.

Hazuda, Mark

Heller, Susan J.

Hess, David

Hewitt, Ronald

Heyman, David

Hill, Alice

Hill, Mark

Hochman, Kathleen

Hoggan, Kelly C.

Holterman, Keith

Homan, Tom

Houser, Eric

Hylton, Roberto L.

Ingram, Deborah S.

Jensen, Robert

Johnson Perryman, Janet

Johnson, Daniel

Johnson, Edward H.

Johnson, James

Jones Jr., Berl D.

Jones, Franklin C.

Jones, Keith

Jones, Rendell

Joseph, Leonard

Karoly, Stephen

Kauffman, Keith

Kaufman, David J.

Keene, Kenneth D

Keiserman, Brad J.

Kendall, Sarah

Kerner, Francine

Kessler, Tamara

Kieserman, Brad J.

Kish, James R.

Kopel, Richard

Koumans, Marnix

Krizay, Glenn

Kronisch, Matthew L.

Kruger, Randy

Kruger, Mary

Kubiak, Lev J.

Langlois, Joseph

Lederer, Calvin M.

Legomsky, Stephen

Logan, Christopher

Looney, Robert

Luczko, George

Ludtke, Meghan G.

Lumpkins, Donald M.

Lyon, Shonnie

Mabeus, Steven

Magaw, Craig D.

Maher, Joseph B.

Mapar, Jalal

Marshall, Gregory

Martoccia, Anthony R.

Maughan, William

May, Major P.

Mayorkas, Alejandro

McAleenan, Kevin K.

McAllister, Scott

McClain, Ellen

McConnell, Bruce

McDonald, Christina E.

McMillan, Howard

McNamara, Philip

Meckley, Tammy

Melero, Mariela

Menna, Jenny

Merritt, Michael P.

Meyer, Jonathan E.

Micone, Vincent

Mihalko, George

Miles, John

Miller, David L.

Mitchell, Andrew

Mocny, Robert

Monica, Donald

Montgomery, Cynthia R.

Moore, Joseph

Morrissey, Paul S.

Moses, Patrick

Moynihan, Timothy M.

Mulligan, Ricci

Murphy, Jane P.

Murphy, John

Murphy, Kenneth D.

Muzyka, Carolyn

Myers, David L.

Napolitano, Janet

Nayak, Nick

Neptun, Daniel A.

Neufeld, Donald

Nicholson, David

Nimmich, Joseph L.

Novak, Michael R.

O'Connor, Kimberly

Odom, Maria

Okada, Ted T.

Olavarria, Esther

Oliver, Clifford E.

Onieal, Denis G.

Orner, Jeffrey

O'Toole, Tara

Palmer, David J.

Parent, Wayne

Paschall, Robert

Patrick, Connie L

Patterson, Leonard

Peavy, Sandy H.

Penn, Damon C.

Philbin, Patrick

Phillips, Sally

Pierson, Julia A.

Pietropaoli, Lori

Potts, Michael

Pressman, David

Pupillo, Dale A.

Quijas, Louis

Ramanathan, Sue

Ramirez, Edgar

Rausch, Sharia

Redman, Kathy

Renaud, Daniel

Renaud, Tracy

Reuther, Kurt

Rhew, Perry

Richardson, Gregory

Riordan, Denis

Robbins, Tim

Robinson, David M.

Robinson, George A.

Roche, William W.

Rodriguez, Waldemar

Rogers, Debra

Rudolph, Alan

Ruppel, Joanna

Russell, Anthony A.

Russell, Michael

Ryan, Paul

Rynes, Joel

Salazar, Ronald

Saliunas, Barbara

Salvatore, Joseph C.

Sandweg, John

Saunders, Steve D.

Savastana, Anthony J.

Schied, Eugene H.

Schmelzinger, Gilbert

Schoening, Donald

Scholz, Dawn

Schreiber, Tonya

Schwartz, Mark

Scialabba, Lori

Seale, Mary

Sekar, Radha C.

Sevier, Adrian

Shelton Waters, Karen R.

Sherry, Peggy

Shlossman, Amy

Smislova, Melissa

Smith, A.T.

Smith, Douglas

Smith, Eric T.

Smith, Gordon

Solheim, Linda

Spampinato Jr., Francis C.

Spaulding, Suzanne

Stallworth, Charles E.

Stanley, Kathleen

Stanton, John

Stempfley, Roberta

Stevens, Clark

Strack, Barbara

Streufert, John

Stroud, Dennis M.

Sutherland, Daniel

Swacina, Linda

Swain, Donald

Swartz, Neal J.

Swengros, Richard

Tarry, William

Tate, Cornelius F.

Taylor, Charles

Teets, Gregory L.

Tennyson, Stephanie L.

Thomas, Rob C.

Thompson, John

Tierney, MaryAnn E.

Toler, Jacob

Tomsheck, James F.

Torrence, Donald

Triner, Donald

Trissell, David A.

Tuttle, James

Ulianko, John

Vanison, Denise

Vasquez JR, Leopoldo R.

Velarde, Barbara

Velasquez III, Andrew

Venture, Veronica

Veysey, Anne

Vincent, Peter S.

Walke, James A.

Walther, Kelli

Walton, Kimberly H.

Ward, Nancy L.

Ward, Patrice

Warrick, Thomas

Wenchel, Rosemary

Williams, Dwight M.

Williams, Gerard J.

Williams, Richard

Winchell, Leigh

Windham, Nicole

Winkowski, Thomas S.

Wong, Heather

Woodard, Steven C.

Wright, Joseph W

Wright, Roy E.

Wulf, David

Yeager, Michael J.

Zabko, John

Zelvin, Lawrence

Zimmerman, Elizabeth A.

This notice does not constitute a significant regulatory action under section 3(f) of Executive Order 12866. Therefore, DHS has not submitted this notice to the Office of Management and Budget. Further, because this notice is a matter of agency organization, procedure and practice, DHS is not required to follow the rulemaking requirements under the Administrative Procedure Act (5 U.S.C. 553).

Dated: July 18, 2013.
Shonna R. James,
Director, Executive Resources, Office of the Chief Human Capital Officer.

[FR Doc. 2013-17808 Filed 7-23-13; 8:45 am]

BILLING CODE 9110-9B-P